DEPARTMENT OF COMMERCE

National Oceanic and Atmospheric Administration

RIN 0648-XC048

Fishing Capacity Reduction Program for the Pacific Coast Groundfish Fishery

AGENCY: National Marine Fisheries Service (NMFS), National Oceanic and Atmospheric Administration (NOAA), Commerce.

ACTION: Notice of loan repayment.

SUMMARY: NMFS issues this notice to inform interested parties that the Oregon Pink Shrimp sub-loan in the fishing capacity reduction program for the Pacific Coast Groundfish Fishery has been repaid. Therefore, buyback fee collections on Oregon pink shrimp will cease.

DATES: Comments must be submitted on or before 5 p.m. EST June 13, 2012.

ADDRESSES: Send comments about this notice to Paul Marx, Chief, Financial Services Division, NMFS, Attn: Oregon Pink Shrimp Buyback, 1315 East-West Highway, Silver Spring, MD 20910 (see FOR FURTHER INFORMATION CONTACT).

FOR FURTHER INFORMATION CONTACT: Michael A. Sturtevant at (301) 427-8799, fax (301) 713-1306, or michael.a.sturtevant@noaa.gov.

SUPPLEMENTARY INFORMATION: On November 16, 2004, NMFS published a Federal Register document (69 FR 67100) proposing regulations to implement an industry fee system for repaying the reduction loan. The final rule was published July 13, 2005 (70 FR 40225) and fee collection began on September 8, 2005. Interested persons should review these for further program details.

The Oregon pink shrimp sub-loan of the Pacific Coast Groundfish Capacity Reduction (Buyback) loan in the amount of $2,228,844.53 has now been repaid in full. NMFS has received $3,253,336.34 to repay the principal and interest on this sub-loan since fee collection began September 8, 2005. Landings in the Oregon pink shrimp fishery increased in recent seasons, particularly in the 2011 season, which resulted in this sub-loan being repaid on or about May 17, 2012. As a result, buyback loan fees will no longer be collected in the Oregon pink shrimp fishery.

Based upon the best available data from the Oregon Department of Fish and Wildlife, landings after April 19, 2012, will not be subject to the buyback fee. Any funds submitted to NMFS for landings after this date will be refunded on a pro-rata basis to the fish buyers/processors. The fish buyers/processors should return excess fees collected to the harvesters, including buyback fees collected but not yet remitted to NMFS.

Dated: May 23, 2012.
Cherish Johnson,
Acting Director, Office of Management and Budget, National Marine Fisheries Service.

[FR Doc. 2012-12969 Filed 5-25-12; 8:45 am]

BILLING CODE 3510-22-P